DEPARTMENT OF EDUCATION

34 CFR Part 668

[Docket ID ED-2015-OPE-0020]

RIN 1840-AD14

Program Integrity and Improvement

AGENCY: Office of Postsecondary Education, Department of Education.

ACTION: Announcement of early implementation date.

SUMMARY: The U.S. Department of Education is establishing the date for early implementation of certain regulations for the Federal Student Aid programs authorized under title IV of the Higher Education Act of 1965, as amended (HEA).

DATES: The early implementation date for §§ 668.2(b) and 668.163(a)(1) and (c), published in the Federal Register of October 30, 2015 (80 FR 67126), is April 7, 2016.

FOR FURTHER INFORMATION CONTACT: For repeat coursework: Vanessa Freeman, U.S. Department of Education, 400 Maryland Ave. SW., Room 6W236, Washington, DC 20202-1100. Telephone: (202) 453-7378 or by email at: vanessa.freeman@ed.gov; or Aaron Washington, U.S. Department of Education, 400 Maryland Ave. SW., Room 6W246, Washington, DC 20202-1100. Telephone: (202) 453-7241 or by email at: aaron.washington@ed.gov. For cash management: Ashley Higgins, U.S. Department of Education, 400 Maryland Ave. SW., Room 6W234, Washington, DC 20202-1100. Telephone: (202) 453-6097 or by email at: ashley.higgins@ed.gov.

If you use a telecommunications device for the deaf or text telephone, call the Federal Relay Service, toll free, at 1-800-877-8339.

SUPPLEMENTARY INFORMATION: On October 30, 2015, we published final rules in the Federal Register (80 FR 67126) amending the cash management regulations and other sections of the Student Assistance General Provisions regulations issued under the HEA.

Section 482(c) of the HEA requires that regulations affecting programs under title IV be published in final form by November 1 prior to the start of the award year (July 1) to which they apply. However, that section of the HEA also permits the Secretary to designate any regulation as one that an entity subject to the regulations may choose to implement earlier, and to specify the conditions for early implementation. The Secretary is exercising the authority under Section 482(c) of the HEA to early implement specific sections of the Program Integrity and Improvement regulations.

Section 668.2(b) specifies that in a term-based program a student may repeat any coursework previously taken in the program but the coursework may not include more than one repetition of a previously passed course. This provision applies to graduate and professional as well as undergraduate students. Section 668.163(a)(1) specifies that educational institutions must maintain title IV, HEA program funds in depository accounts and guidelines that domestic and foreign educational institutions must follow in selecting this account. Finally, § 668.163(c) states that educational institutions in a State must maintain title IV, HEA program funds in an interest-bearing depository account. This section also explains in which instances interest on funds can be retained or must be remitted to the Department of Health and Human Services.

Implementation Date of These Regulations

The Secretary is exercising the authority under section 482(c) of the HEA to designate the following amended regulations in 34 CFR part 668 for early implementation beginning on April 7, 2016:

(1) Section 668.2(b) (Retaking Coursework);

(2) Section 668.163(a)(1) (Depository account); and

(3) Section 668.163(c) (Interest-bearing depository account).

Accessible Format: Individuals with disabilities can obtain this document in an accessible format (e.g., braille, large print, audiotape, or compact disc) by contacting Ashley Higgins, U.S. Department of Education, 400 Maryland Ave. SW., Room 6W234, Washington, DC 20202-1100. Telephone: (202) 453-6097 or by email: ashley.higgins@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: April 4, 2016.
John B. King, Jr.,
Secretary of Education.

[FR Doc. 2016-08055 Filed 4-6-16; 8:45 am]

BILLING CODE 4000-01-P